ENVIRONMENTAL PROTECTION AGENCY

[EPA-R10-OAR-2017-0051: FRL-9962-90-Region 10]

Adequacy Determination for the Oakridge-Westfir, Oregon PM2.5 State Implementation Plan for Transportation Conformity Purposes

AGENCY: Environmental Protection Agency (EPA).

ACTION: Notice of adequacy determination.

SUMMARY: The Environmental Protection Agency (EPA) is notifying the public of its finding that the motor vehicle emissions budget (MVEB) for primary particulate matter with an aerodynamic diameter of a nominal 2.5 microns or less (PM2.5) in the Oakridge-Westfir PM2.5 state implementation plan (SIP or attainment plan) are adequate for transportation conformity purposes. The attainment plan was submitted to the EPA by the State of Oregon Department of Environmental Quality (DEQ or the State) on January 20, 2017. As a result of this adequacy finding, the Oregon DEQ, the Oregon Department of Transportation, and the U.S. Department of Transportation will be required to use these MVEBs for future transportation conformity determinations.

DATES: This finding is effective June 21, 2017.

FOR FURTHER INFORMATION CONTACT: The finding will be available at the EPA's conformity Web site: https://www.epa.gov/state-and-local-transportation/state-implementation-plans-sip-submissions-epa-has-found-adequate-or. You may also contact Dr. Karl Pepple, U.S. EPA, Region 10 (OAWT-107), 1200 Sixth Ave., Suite 900, Seattle, WA 98101; (206) 553-1778; or by email at pepple.karl@epa.gov.

SUPPLEMENTARY INFORMATION: This action provides notice of the EPA's adequacy finding regarding the MVEBs located in the attainment plan for the 2006 PM2.5 national ambient air quality standards for purposes of transportation conformity. The EPA's finding was made pursuant to the adequacy review process for state attainment plan submissions delineated at 40 CFR 93.118(f)(1) under which the EPA reviews the adequacy of an attainment plan submission prior to the EPA's final action on the attainment plan.

Before the attainment plan was submitted to the EPA, consultation among federal, State, and local agencies occurred. The State submitted the attainment plan to the EPA on January 20, 2017. Pursuant to 40 CFR 93.118(f)(1), the EPA notified the public of its receipt of this plan and its review for an adequacy determination on the EPA's Web site and requested public comment by no later than March 9, 2017. The EPA received no comments on the plan during the comment period. As part of our analysis, we also reviewed the State's compilation of public comments and response to comments that were submitted during the State's public process for the attainment plan. The EPA finds that the MVEBs in the attainment plan are adequate for purposes of transportation conformity. There were no comments submitted on the attainment plan during the State public process.

The EPA notified Oregon DEQ in a letter dated April 24, 2017 (adequacy letter), subsequent to the close of the EPA comment period, that the EPA had found the MVEBs located in the attainment plan to be adequate for use in transportation conformity. A copy of the adequacy letter and its enclosure are available in the docket for this action and at the EPA's conformity Web site.¹ The MVEB that the EPA determined to be adequate for purposes of transportation conformity is listed in the following table.

¹ https://www.epa.gov/state-and-local-transportation/state-implementation-plans-sip-submissions-epa-has-found-adequate-or.

2015 Worst Case Day Motor Vehicle Emissions Budget for Oakridge-Westfir
Primary PM2.5 | 22.2 lbs/day.

Transportation conformity is required by section 176(c) of the Clean Air Act. Transportation conformity to an attainment plan means that on-road transportation activities will not produce new air quality violations, worsen existing violations, or delay timely attainment of the national ambient air quality standards. The minimum criteria by which we determine whether an attainment plan is adequate for conformity purposes are specified at 40 CFR 93.118(e)(4). The EPA's analysis of how the attainment plan satisfies these criteria is found in the adequacy letter and its enclosure. The EPA's adequacy review is separate from the EPA's attainment plan completeness review and it is not dispositive of the EPA's ultimate action on the attainment plan.

Authority: 42 U.S.C. 7401-767Iq.

Dated: May 10, 2017.
Michelle L. Pirzadeh,
Acting Regional Administrator, Region 10.

[FR Doc. 2017-11690 Filed 6-5-17; 8:45 am]

BILLING CODE 6560-50-P